NUCLEAR REGULATORY COMMISSION

Risk-Informed Corrective Action Program

AGENCY: Nuclear Regulatory Commission.

ACTION: Notice of public meeting.

SUMMARY: The Nuclear Regulatory Commission has instructed its staff to explore potential areas where regulations can be made more risk-informed and performance based. One area that the staff finds of interest involves the ability of licensee's to risk-monitor and risk-prioritize their corrective action programs. This noticed meeting is to discuss the computerized program developed by Bill Vesely and implemented by at least one utility, (PP&L—Susquehanna) to risk-inform their corrective action program. The meeting will focus on the program's use and application, associated results and findings, and potential for application in this and other areas of the regulatory process.

Meeting Information: The staff intends to conduct a meeting to provide for an exchange of information related to the licensee's corrective action programs. Persons other than NRC staff and NRC contractors interested in making a presentation at the meeting should notify John H. Flack, Office of Nuclear Regulatory Research, MS: T10-E46, U.S. Nuclear Regulatory Commission, Washington D.C. 20555-0001, (301) 415-5739, email: jhf@nrc.gov.

Date: February 1, 2000.

Time: 2:00pm-4:00pm.

Location: Two White Flint North, 11545 Rockville Pike, Room T-10A1, Rockville, Maryland 20852.

Registration: N/A.

FOR FURTHER INFORMATION CONTACT: John H. Flack, Office of Nuclear Regulatory Research, MS: T10-E46, U.S. Nuclear Regulatory Commission, Washington, D.C. 20555-0001, (301) 415-5739, email: jhf@nrc.gov.

Dated this 13th day of January 2000.
For the Nuclear Regulatory Commission.
Jack E. Rosenthal,
Chief, Regulatory Effectiveness Assessment & Human Factors Branch, Division of Systems Analysis and Regulatory Effectiveness, Office of Nuclear Regulatory Research.

[FR Doc. 00-1453 Filed 1-20-00; 8:45 am]

BILLING CODE 7590-01-P